DEPARTMENT OF LABOR

Employment and Training Administration

[TA-W-72,888]

Tektronix, Inc., and Maxtek, a Wholly Owned Subsidiary, Including On-Site Leased Workers From Adecco Employment Services, Beaverton, OR; Amended Certification Regarding Eligibility To Apply for Worker Adjustment Assistance

In accordance with Section 223 of the Trade Act of 1974, as amended (“Act”), 19 U.S.C. 2273, the Department of Labor issued a Certification of Eligibility to apply for Worker Adjustment Assistance on March 3, 2010, applicable to workers of Tektronix, Inc, Beaverton, Oregon. The workers produce general purpose electronic test equipment. The notice will be published soon in the Federal Register.

At the request of the State agency, the Department reviewed the certification for workers of the subject firm. The workers are engaged in activities related to the production of general purpose electronic test equipment.

Information shows that some of the workers separated from employment at the subject firm had their wages reported under a separate unemployment insurance (UI) tax account for Maxtek, a wholly owned subsidiary of Tektronix, Inc.

Accordingly, the Department is amending this certification to properly reflect this matter.

The intent of the Department's certification is to include all workers of the subject firm who were adversely affected by the shift in production of general purpose electronic test equipment to China.

The amended notice applicable to TA-W-72,888 is hereby issued as follows:

All workers Tektronix, Inc. and Maxtek, a wholly owned subsidiary, including on-site leased workers from Adecco Employment Services, Beaverton, Oregon, who became totally or partially separated from employment on or after November 17, 2008, through March 3, 2012, and all workers in the group threatened with total or partial separation from employment on the date of certification through two years from the date of certification, are eligible to apply for adjustment assistance under Chapter 2 of Title II of the Trade Act of 1974, as amended.

Signed in Washington, DC, this 19th day of April, 2010.
Richard Church,
Certifying Officer, Division of Trade Adjustment Assistance.

[FR Doc. 2010-9922 Filed 4-28-10; 8:45 am]

BILLING CODE 4510-FN-P